DEPARTMENT OF JUSTICE

Notice of Lodging of Settlement Agreement Pursuant to the Comprehensive Environmental Response Compensation and Liability Act

Notice is hereby given that, on March 23, 2001, a proposed Settlement Agreement in In Re: Teplitz Auto Parts, Inc., No. 00-13384 (ash) (Bankr. S.D.N.Y.), a bankruptcy action involving Teplitz Auto Parts, Inc., a defendant in United States v. Woodward Metal Processing, Corp. et al., No. 98-2736 (JWB/GDH) (D.N.J.), was lodged with the United States District Court for the District of New Jersey. By its terms, the Settlement Agreement becomes effective only after approval is obtained from both the Bankruptcy Court and the District Court.

In the District Court action, the United States sought to recover response costs incurred in connection with a removal action at the Woodward Metal Processing Corporation Site, located at 125 Woodward Street, Jersey City, New Jersey (“Site”), pursuant to Section 107 of the Comprehensive Environmental Response, Compensation, and Liability Act (“CERCLA”), 42 U.S.C. 9607. The proposed Settlement Agreement would allow a general unsecured claim in the bankruptcy action by the United States in the amount of $375,000. Together with other ending settlements, the Settlement Agreement would resolve the District Court action in its entirety.

The U.S. Department of Justice will receive, for period of thirty (30) days from the date of publication of this Notice, comments relating to the proposed Settlement Agreement. Any comments should be addressed to the Assistant Attorney General for the Environmental and Natural Resources Division, U.S. Department of Justice, P.O. Box 7611, Washington, DC 20044-7611, and should reference the following case name and number: United States v. Metal Processing Corp., et al., DJ #90-11-2-1299/1.

The proposed Settlement Agreement may be examined at the offices of EPA Region II, located at 290 Broadway, New York, New York, c/o Virginia Curry, Esq., (212) 637-3134, or at the U.S. Attorney's Office, 970 Broad St., 7th Floor, Newark, NJ 07102, c/o Susan Cassell, Esq., (973) 645-2700. A copy of the proposed Settlement Agreement may also be obtained by mail from the Consent Decree Library, P.O. Box 7611, U.S. Department of Justice, Washington, DC 20044-7611, c/o Peggy Fenlon-Gore, (202) 514-5245. In requesting a copy, please enclose a check in the amount of $6.75 (25 cents per page reproduction cost) payable to the Consent Decree Library.

Ronald G. Gluck, Esq.,
Assistant Chief, Environmental Enforcement Section, Environment and Natural Resources Division.

[FR Doc. 01-10883 Filed 5-1-01; 8:45 am]

BILLING CODE 4410-15-M